COMMITTEE FOR PURCHASE FROM PEOPLE WHO ARE BLIND OR SEVERELY DISABLED

Procurement List Additions and Deletion

AGENCY: Committee for Purchase From People Who Are Blind or Severely Disabled.

ACTION: Additions to and deletion from Procurement List.

SUMMARY: This action adds to the Procurement List products and services to be furnished by nonprofit agencies employing persons who are blind or have other severe disabilities, and deletes from the Procurement List product previously furnished by such agency.

DATES: Effective Date: February 12, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On November 10, 2005 (70 FR 68396) and November 18, 2005 (70 FR 69934), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Cup, Disposable (For Defense Supply Center Philadelphia Only).

NSN: 7350-01-411-5265 (9 oz Tall-style).

NPA: The Lighthouse for the Blind in New Orleans, New Orleans, LA.

Contracting Activity: Defense Supply Center Philadelphia, Philadelphia, PA.

Product/NSN: Kit, Helicopter Landing Zone.

NSN: 6230-01-513-2533—Kit, Helicopter Landing Zone.

NPA: The Arc of Bergen and Passaic Counties, Inc., Hackensack, NJ.

Contracting Activity: Defense Supply Center Philadelphia, Philadelphia, PA.

Services

Service Type/Location: Custodial & Grounds Maintenance, Bureau of Customs and Border Protection, Rio Grande Valley Sector Headquarters, 4400 South Expressway 281, Edinburg, TX.

NPA: Training, Rehabilitation, & Development Institute, Inc., San Antonio, TX.

Contracting Activity: Department of Homeland Security, Washington, DC.

Service Type/Location: Grounds Maintenance, El Centro Service Processing Center, 1115 N. Imperial Avenue, El Centro, CA.

NPA: ARC-Imperial Valley, El Centro, CA.

Contracting Activity: Department of Homeland Security, Laguna Niguel, CA.

Deletion

On November 18, 2005, the Committee for Purchase From People Who Are Blind or Severely Disabled published notice (70 FR 69934) of proposed deletion to the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSN: Plug, Ear, Hearing Protection.

NSN: 6515-01-492-3625 (one-color).

NPA: New Dynamics Corporation, Middletown, NY.

Contracting Activity: GSA, Southwest Supply Center, Fort Worth, TX.

Sheryl D. Kennerly,
Director, Information Management.

[FR Doc. E6-323 Filed 1-12-06; 8:45 am]

BILLING CODE 6353-01-P